DEPARTMENT OF AGRICULTURE

Forest Service

Siskiyou County Resource Advisory Committee

AGENCY: Forest Service, USDA.

ACTION: Notice of meeting.

SUMMARY: The Siskiyou County Resource Advisory Committee will meet in Yreka, California. The committee is authorized under the Secure Rural Schools and Community Self-Determination Act (Pub. L. 112-141) (the Act) and operates in compliance with the Federal Advisory Committee Act. The purpose of the committee is to improve collaborative relationships and to provide advice and recommendations to the Forest Service concerning projects and funding consistent with the Title II of the Act. The meeting is open to the public. The purpose of the meeting is for the committee to hear project status, review project proposals, and to vote and make recommendations for funding. Opportunity for public comment will be provided.

DATES: The meeting will be held Monday, September 17, 2012, at 4:00 p.m. and, if needed, the meeting will be continued Monday, September 24, at 4:00 p.m. to recommend projects by the September 30, 2012 deadline.

ADDRESSES: The meeting will be held at the Klamath National Forest Supervisor's Office, main conference room, at 1711 South Main Street in Yreka, CA.

Written comments may be submitted as described under SUPPLEMENTARY INFORMATION. All comments, including names and addresses when provided, are placed in the record and are available for public inspection and copying. The public may inspect comments received at the Klamath National Forest Supervisor's Office. Please call ahead to (530) 841-4484 to facilitate entry into the building to view comments.

FOR FURTHER INFORMATION CONTACT: Kerry Greene, Community Development and Outreach Specialist, phone: (530) 841-4484 or email: kggreene@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices, or other reasonable accommodation for access to the facility or proceedings by contacting the person listed For Further Information.

SUPPLEMENTARY INFORMATION: The following business will be conducted: Project updates and financial status, and review of project proposals currently under consideration by the RAC. New project proposals are now being accepted. The committee may vote to recommend projects for the funding. A meeting agenda and copies of submitted proposals can be accessed at: https://fsplaces.fs.fed.us/fsfiles/unit/wo/secure_rural_schools.nsf/RAC/Siskiyou+County-CA.

Anyone who would like to bring related matters to the attention of the committee may file written statements with the committee staff before or after the meeting. The agenda will include time for people to make oral statements of three minutes or less. Individuals wishing to make an oral statement should request in advance to be scheduled on the agenda. Written comments and requests for time for oral comments must be sent to the Klamath National Forest, 1711 S. Main Street, Yreka, CA 96097, attention: Kerry Greene or by email to kggreene@fs.fed.us, or via facsimile to (530) 841-4571.

A summary of the meeting will be posted at: https://fsplaces.fs.fed.us/fsfiles/unit/wo/secure_rural_schools.nsf/RAC/Siskiyou+County-CA within 21 days of the meeting.

Meeting Accommodations: If you require sign language interpreting, assistive listening devices, or other reasonable accommodation please request this in advance of the meeting by contacting the person listed in the section titled FOR FURTHER INFORMATION CONTACT. All reasonable accommodation requests are managed on a case by case basis.

Dated: August 15, 2012.
Patricia A. Grantahm,
Forest Supervisor.

[FR Doc. 2012-20475 Filed 8-20-12; 8:45 am]

BILLING CODE 3410-11-P